DEPARTMENT OF COMMERCE

National Oceanic and Atmospheric Administration

50 CFR Part 648

[Docket No. 080228326-0108-03]

RIN 0648-XY46

Fisheries of the Northeastern United States; Northeast Skate Complex Fishery; Reduction of Skate Wing Fishery Possession Limit

AGENCY: National Marine Fisheries Service (NMFS), National Oceanic and Atmospheric Administration (NOAA), Commerce.

ACTION: Temporary rule; inseason adjustment.

SUMMARY: NMFS announces the reduction of the skate wing fishery possession limit for the Skate Management Unit for the remainder of the 2010 fishing year. Regulations governing the skate fishery require publication of this notification to advise skate-permitted vessels that 80 percent of the annual total allowable landings (TAL) of skate wings is projected to be harvested and to announce that the skate wing possession limit is reduced.

DATES: Effective September 3, 2010, through April 30, 2011.

FOR FURTHER INFORMATION CONTACT: Tobey Curtis, Fishery Policy Analyst, (978) 281-9273.

SUPPLEMENTARY INFORMATION: Regulations governing the Northeast Skate Complex fishery are found at 50 CFR part 648. The regulations at § 648.322(b)(2) require the Northeast Regional Administrator to reduce the skate wing fishery possession limit when 80 percent of the annual total allowable landings (TAL) for skate wings is projected to be harvested, unless the reduction would be expected to prevent attainment of the entire TAL. In the final rule implementing Amendment 3 to the Northeast Skate Complex Fishery Management Plan and fishing year 2010-2011 skate fishery specifications (published in the Federal Register June 16, 2010, 75 FR 34049), the skate wing TAL for the 2010 fishing year was specified at 20.302 million lb (9,209 mt), and the initial skate wing possession limit was 5,000 lb (2,268 kg) wing weight (11,350 lb (5,148 kg) whole weight). This final rule requires NMFS to publish a notification in the Federal Register advising and notifying vessels and dealer permit holders when the Regional Administrator has determined that the skate wing possession limit should be reduced.

Based upon recent projections, the Regional Administrator anticipates that 80 percent of the 2010 skate wing TAL (16.242 million lb (7,367 mt)) will be fully harvested on or about September 2, 2010. Furthermore, without adjustment, there is a high probability that skate wing landings will exceed the TAL before the end of the fishing year. To maintain the integrity of the 2011 skate wing fishery by avoiding quota overages, this notice announces the reduction of the skate wing possession limit for the remainder of the 2010 fishing year (through April 30, 2011). Effective 0001 hour on September 3, 2010, the skate wing possession limit will be reduced from 5,000 lb (2,268 kg) wing weight (11,350 lb (5,148 kg) whole weight) to 500 lb (227 kg) wing weight (1,135 lb (515 kg) whole weight) per trip, or any prorated combination of skate wings and whole skates based on the conversion factor for wing weight to whole weight of 2.27.

Classification

This action is required by 50 CFR part 648 and is exempt from review under Executive Order 12866.

Authority: 16 U.S.C. 1801 et seq.

Dated: August 25, 2010.
Carrie Selberg,
Acting Director, Office of Sustainable Fisheries, National Marine Fisheries Service.

[FR Doc. 2010-21714 Filed 8-30-10; 8:45 am]

BILLING CODE 3510-22-S